DEPARTMENT OF THE INTERIOR

Bureau of Indian Affairs

Final Environmental Impact Statement for the Proposed Integrated Resource Management Plan for the Spokane Indian Reservation, Stevens County, WA

AGENCY: Bureau of Indian Affairs, Interior.

ACTION: Notice.

SUMMARY: This notice advises the public that the Bureau of Indian Affairs (BIA), in cooperation with the Spokane Tribe of Indians (Tribe), intends to file a Final Environmental Impact Statement (FEIS) for the proposed Integrated Resource Management Plan (IRMP) for the Spokane Indian Reservation, Washington, with the U.S. Environmental Protection Agency, and that the FEIS is now available to the public. The proposed action would update the Tribe's existing IRMP, in order to continue long term resource management.

DATES: The Record of Decision on the proposed action will be issued on or after July 22, 2008. Any comments on the FEIS must arrive by July 21, 2008.

ADDRESSES: You may mail or hand carry written comments to Donna R. Smith, Geologist, Bureau of Indian Affairs, Spokane Agency, Agency Square, Building 201, P.O. Box 389, Wellpinit, Washington 99040. Please include your name and mailing address with your comments. Persons wishing copies of this FEIS may contact Donna R. Smith at the above address, by telephone at (509) 258-4561, or by fax at (509) 258-7542. The FEIS is also available on line at http://www.spokanetribe.com.

FOR FURTHER INFORMATION CONTACT: Donna Smith, (509) 258-4561.

SUPPLEMENTARY INFORMATION: The proposed BIA action is approval of the Tribe's updating and implementation of an IRMP. The proposed IRMP covers a period of 10 years and addresses resources of value on all of the approximately 157,000 acres within the boundaries of the Spokane Indian Reservation and/or under the jurisdiction of the Tribe, including, but not limited to, air quality, cultural resources, fisheries, wildlife, timber, surface and ground water resources, range, agriculture, recreation, mining, residential development, economic development land uses, and infrastructure. The updated IRMP would be implemented in fiscal year 2008 by both the BIA and Spokane Tribe

The FEIS analyzes a range of feasible alternatives to address both current and projected needs over the next 10 years. These alternatives are as follows: (#1) No Action, which would continue the existing IRMP with no change in management style; (#2) Preservation and Cultural Emphasis, which would provide the greatest level of environmental and cultural protection; (#3) Preservation of All Future Uses (preferred alternative), with outcome based performance which would balance ecological and cultural values with the need for income; (#4) Growth and Economic Emphasis, which would allow decisions to be driven by economics; and (#5) Individual Freedom Emphasis, which would allow individuals maximum freedom to develop land within the current regulatory framework.

The BIA has afforded other government agencies and the public ample opportunity to participate in the preparation of this Environmental Impact Statement (EIS). The BIA published a notice of intent to prepare an EIS for the proposed action in the Federal Register on January 9, 2003 (68 FR 1190). The BIA held a public scoping meeting on January 23, 2003, in Wellpinit, Washington. A Notice of Availability for the Draft EIS was published in the Federal Register on September 6, 2006 (71 FR 52568). The document was available for public comment from September 6 to November 6, 2006, and a public hearing was held on September 27, 2006, in Wellpinit, Washington.

Public Comment Availability

Comments, including names and addresses of respondents, will be available for public review at the mailing address shown in the ADDRESSES section, during regular business hours, 8 a.m. to 4:30 p.m., Monday through Friday, except holidays. Before including your address, phone number, e-mail address or other personal identifying information in your comment, you should be aware that your entire comment—including your personal identifying information—may be made publicly available at any time. While you can ask us in your comment to withhold your personal identifying information from public review, we cannot guarantee that we will be able to do so.

Authority

This notice is published in accordance with section 1503.1 of the Council on Environmental Quality Regulations (40 CFR Parts 1500 through 1508) implementing the procedural requirements of the National Environmental Policy Act of 1969, as amended (42 U.S.C. 4371 et seq.), and the Department of the Interior Manual (516 DM 1-6), and is in the exercise of authority delegated to the Assistant Secretary—Indian Affairs by 209 DM 8.

Dated: May 20, 2008.
Carl J. Artman,
Assistant Secretary—Indian Affairs.

[FR Doc. E8-13999 Filed 6-19-08; 8:45 am]

BILLING CODE 4310-W7-P